DEPARTMENT OF THE INTERIOR

National Park Service

National Register of Historic Places; Notification of Pending Nominations and Related Actions

Nominations for the following properties being considered for listing or related actions in the National Register were received by the National Park Service before April 25, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by May 26, 2009.

J. Paul Loether,
Chief, National Register of Historic Places/National Historic Landmarks Program.

ARIZONA

Pima County

Aldea Linda Residential Historic District, 4700-5000 block E. Calle Jabali, E. 22nd St., 1100 block S. Swan Rd., Tucson, 09000371

ARKANSAS

Clay County

Rector Commercial Historic District, Bounded by St. Louis and Southwestern Railroad tracks on the E. and S., S. Dodd on the W., 3rd St. on the N., Rector, 09000369

Pulaski County

Lee, Robert E., School, 3805 W. 12th St., Little Rock, 09000370

CALIFORNIA

Humboldt County

Sweasey Theater—Loew's State Theater, 412 G St., Eureka, 09000372

IDAHO

Bonneville County

Idaho Falls Downtown Historic District, W. Broadway, Park Ave., Constitution Ave., Idaho Falls, 09000373

ILLINOIS

Kankakee County

Bradley, B. Harley, House and Stable, 701 S. Harrison Ave., Kankakee, 09000374

NEW YORK

Chenango County

Eaton Family Residence—Jewish Center of Norwich, 72 S. Broad St., Norwich, 09000375

Erie County

E. & B. Holmes Machinery Company Building, 55-59 Chicago St., Buffalo, 09000376

Kings County

Beth El Jewish Center of Flatbush, 1981 Homecrest Ave., Brooklyn, 09000377

Orleans County

Gates, Benjamin Franklin, House, 13079 W. Lee Rd., Albion, 09000378

Richmond County

Jacques Marchais Center of Tibetan Art, 338 Lighthouse Ave., Staten Island, 09000379

Westchester County

Sleepy Hollow Cemetery, 540 N. Broadway, Sleepy Hollow, 09000380

NORTH CAROLINA

Mecklenburg County

Davidson Historic District, Bounded by N. Main and Beaty Sts., Catawba Ave. Mock and Concord Rds., Pat Stough and Dogwood Lns., Davidson College, Davidson, 09000381

Wake County

Wendell Boulevard Historic District, (Wake County MPS) Wendell Blvd., Mattox St., Old Zebulon Rd., Buffalo St. and Main St., Wendell, 09000382

NORTH DAKOTA

Billings County

Custer Military Trail Historic Archaeological District, Address Restricted, Medora, 09000383

Golden Valley County

Custer Military Trail Historic Archaeological District, Address Restricted, Medora, 09000383

PENNSYLVANIA

Berks County

Alleghany Mennonite Meetinghouse, 39 Horning Rd., Brecknock Township, 09000384

Franklin County

Kennedy, Robert, Memorial Presbyterian Church, 11799 Mercersburg Rd., Montgomery, 09000385

Greene County

McClelland-Grimes Farm, (Agricultural Resources of Pennsylvania MPS) 844 Craynes Run Rd., Morgan, 09000386

McClelland-Grimes Farm, (Agricultural Resources of Pennsylvania MPS) 844 Craynes Run Rd., Washington, 09000386

Luzerne County

Search, George W., House, 56 S. Main St., Shickskinny, 09000387

Philadelphia County

Center City West Commercial Historic District (Boundary Increase), Roughly bounded by the Center City West Historic District, S. 15th St., Locust St. and S. Sydenham St., Philadelphia, 09000388

SOUTH CAROLINA

Aiken County

Immanuel School, 120 York St. NE, Aiken, 09000389

Greenville County

Fountain Inn High School, 315 N. Main St., Fountain Inn, 09000390

VIRGINIA

Amherst County

Fairview, 2416 Lowesville Rd., Amherst, 09000391

Danville Independent city Schoolfield School Complex, 31 Baltimore Ave., Danville, 09000392

Gloucester County

Ware Neck Store and Post Office, 6495 VA 629, Ware Neck, 09000393

Mathews County

B. Williams & Co. Store, 1030 Williams Wharf Rd., Mathews, 09000394

Nelson County

Pharsalia, 2325 Pharsalia Rd., Tyro, 09000395

Northumberland County

Bluff Point Graded School No. 3, 2595 Bluff Point Rd., Kilmarnock, 09000396

[FR Doc. E9-10791 Filed 5-8-09; 8:45 am]

BILLING CODE P